DEPARTMENT OF HEALTH AND HUMAN SERVICES

Administration for Children and Families

Grant to Center for Economic Progress of Chicago, IL; Office of Family Assistance

AGENCY: Office of Family Assistance, ACF, DHHS.

ACTION: Grant award announcement.

SUMMARY: Notice is hereby given that an award is being made to the Center for Economic Progress of Chicago, IL in the amount of $50,000 to provide outreach on the Earned Income Tax Credit to TANF recipients and other low income individuals. After the appropriate reviews, it has been determined that this unsolicited proposal qualifies for funding.

The goal of the Center for Economic Progress is to increase access to tax credits and asset building opportunities for low and moderate income individuals, families and communities. The Center serves hundreds of thousands of low income taxpayers each tax filing season, and has developed critical knowledge and understanding of the experiences of the taxpayers and the barriers they face accessing the EITC and other low income tax credits.

The Center for Economic Progress is the only organization in the country that has a statewide contract with a State TANF Agency to provide EITC outreach to TANF recipients. They have distinguished itself as a Chicago, statewide and national leader through its innovative programs, partnerships with community organizations, corporate allies, and government agencies. The Center for Economic Progress is uniquely qualified to conduct this project because of its many successes in EITC outreach.

The period of this funding will extend through September 30, 2004.

FOR FURTHER INFORMATION CONTACT: Paul Maiers, Office of Family Assistance, Administration for Children and Families, 370 L'Enfant Promenade, SW., Washington, DC 20447, Telephone: 202-401-5438.

Dated: July 27, 2004.
Andrew S. Bush,
Director, Office of Family Assistance.

[FR Doc. 04-17889 Filed 8-4-04; 8:45 am]

BILLING CODE 4184-01-P